DEPARTMENT OF AGRICULTURE

Agricultural Marketing Service

[Docket No. AMS-TM-O6-0191; TM-07-02]

Notice of Funds Availability (NOFA) Inviting Applications for the Farmers' Market Promotion Program (FMPP); Notice of a Revision to the Approved Information Collection

AGENCY: Agricultural Marketing Service, USDA.

ACTION: Notice.

SUMMARY: The Agricultural Marketing Service (AMS) announces funding of approximately $1 million in competitive grant funds for fiscal year (FY) 2007 to increase domestic consumption of agricultural commodities by expanding direct producer-to-consumer market opportunities. These grant funds are contingent upon AMS's receipt of Congressional funding in 2007 for this program. Examples of direct producer-to-consumer market opportunities include new farmers' markets, roadside stands, community supported agriculture programs, and other direct producer-to-consumer infrastructures. AMS hereby requests proposals from eligible entities from the following categories: (1) Agricultural cooperatives, (2) local governments, (3) nonprofit corporations, (4) public benefit corporations, (5) economic development corporations, (6) regional farmers' market authorities, and (7) tribal governments. The maximum award per grant is $75,000. No matching funds are required. AMS strongly recommends that each applicant read the entire NOFA herein, and visit the AMS Web site at http://www.ams.usda.gov/FMPP to review a copy of the FMPP Guidelines and Application Package Preparation information to assist in preparing the proposal narrative and application package.

DATES: Applications should be received at the address below and must be postmarked not later than April 13, 2007. Comments regarding the information collection requirement under the Paperwork Reduction Act of 1995 must be received on or before April 30, 2007.

ADDRESSES: Submit proposals and other required materials to Mr. Errol Bragg, Associate Deputy Administrator, Marketing Services Branch, Transportation and Marketing Programs, Agricultural Marketing Service (AMS), USDA, Room 2646-South, 1400 Independence Avenue, SW., Washington, DC 20250-0269, phone 202/720-8317.

For hard-copy (paper) submissions, all forms, narratives, letters of support, and other required materials must be forwarded in one application package. AMS will not accept application packages by e-mail; electronic applications will be accepted only if submitted via http://www.Grants.gov.

Comments concerning the information collection requirements should reference docket number AMS-TM-06-0191, TM-07-02 and be sent to Mr. Errol Bragg at the above address or via the Internet at http://www.regulations.gov.

FOR FURTHER INFORMATION CONTACT: Mr. Errol Bragg, Associate Deputy Administrator, Marketing Services Branch, Transportation and Marketing Programs, Agricultural Marketing Service (AMS), on 202/720-8317, fax 202/690-0031, or by e-mail USDAFMPP@usda.gov. State that your request for information refers to Docket No. TM-07-02.

SUPPLEMENTARY INFORMATION: This solicitation is issued pursuant to Section 6 of the Farmer-to-Consumer Direct Marketing Act of 1976 (7 U.S.C. 3001-3006) as amended by Section 10605 of the Farm Security and Rural Investment Act of 2002 (Pub. L. 107-171) (the Acts) authorizing the establishment of the Farmers' Market Promotion Program (7 U.S.C. 3005) (FMPP). The amended act states that the purposes of the FMPP are “(A) to increase domestic consumption of agricultural commodities by improving and expanding, or assisting in the improvement and expansion of, domestic farmers' markets, roadside stands, community-supported agriculture programs, and other direct producer-to-consumer market opportunities; and (B) to develop, or aid in the development of, new farmers' markets, roadside stands, community-supported agriculture programs, and other direct producer-to-consumer infrastructure.” The Secretary of Agriculture has delegated the program's administration to the USDA-AMS. Further, in accordance with the Secretary's Statement of Policy (36 FR 13804), it is found and determined upon good cause that it is impracticable, unnecessary, and contrary to the public interest to engage in further public participation under 5 U.S.C. 553 because the applications for the FMPP need to be made available as soon as possible as the programs season approaches.

Background

AMS's authorizing authorities are the Agricultural Marketing Act of 1946 (7 U.S.C. 1621-1627), the Farmer-to-Consumer Direct Marketing Act of 1976 (7 U.S.C. 3001-3006), and the recent amendment to the 1976 Act, the Farmers' Market Promotion Program (7 U.S.C. 3005). Under the Agricultural Marketing Act of 1946, the Secretary of Agriculture is authorized to conduct, assist, and foster research, investigation, and experimentation to determine the best methods of processing, preparation for market, packaging, handling, transporting, storing, distributing, and marketing agricultural products, 7 U.S.C. 1622(a). Moreover, 7 U.S.C. 1622(f) directs and authorizes the Secretary to conduct and cooperate in consumer education for more effective utilization and greater consumption of agricultural products. In addition, 7 U.S.C. 1622(n) authorizes the Secretary to conduct services and to perform activities that will facilitate the marketing and utilization of agricultural products through commercial channels.

The Farmer-To-Consumer Marketing Act of 1976 directs USDA to encourage the direct marketing of agricultural commodities from farmers to consumers, and to promote the development and expansion of direct marketing of agricultural commodities from farmers to consumers.

Paperwork Reduction Act

In accordance with the Paperwork Reduction Act of 1995, (44 U.S.C. Chapter 35), this notice announces AMS's request for the approval of a revision to a currently approved information collection under the Office of Management and Budget (OMB) collection number 0581-0235. Information collected from FMPP selected grant recipients was inadvertently omitted from the FY-2006 FMPP grant program NOFA published in the March 15, 2006 Federal Register.

Title: Farmers' Market Promotion Program.

OMB Number: 0581-0235.

Type of Request: Revision of a currently approved collection. OMB approved this collection on July 11, 2006 for 3 years expiring July 31, 2009.

Expiration Date of Approval: 3 years from the date of OMB approval.

Abstract: The primary objective of the FMPP is to help eligible entities to improve and expand domestic farmers' markets, roadside stands, community-supported agriculture programs, and other direct producer-to-consumer market opportunities. Eligible entities under this program include agricultural cooperatives, local governments, nonprofit corporations, public benefit corporations, economic development corporations, regional farmers' market authorities, and other entities as the Secretary may designate (7 U.S.C. 3005(c)). The Secretary has designated Tribal Governments as an eligible entity for this grant program.

AMS has established guidelines for the FMPP that contain full details of the program and application process. The guidelines and all (SF and AD) forms required for applying for FMPP grants are available from AMS's Marketing Services Branch Web site at: http://www.ams.usda.gov/FMPP, by calling 202/720-8317, or faxing 202/690-0031. Eligible entities are strongly encouraged to consult the guidelines when preparing applications for submission to the FMPP.

All applicants requesting Federal funding under the FMPP program must complete the following:

(a) Form SF-424, “Application for Federal Assistance,” (approved under OMB collection number 4040-0004) is required by all entities seeking Federal assistance.

(b) Form SF-424A, “Budget Information—Non-Construction Programs,” (approved under OMB collection number 0348-0044) must also be completed by applicants to show the project's budget breakdown, both as to expense categories and the division between Federal and non-federal funding sources, as applicable.

(c) Form SF-424B, “Assurances—Non-Construction Programs,” (approved under OMB collection number 0348-0040) must also be completed by applicants to assure the Federal government of the applicant's legal authority to apply for Federal assistance.

(d) Form SF-269A, Financial Status Report (Short form approved under OMB collection number 0348-0038) or SF-269, Financial Status Report, (Long form approved under OMB collection number 0348-0039, (if the project had program income)) is to be completed once by the eligible entity 90 days after the expiration date of the grant period. The applicant also gives assurance that it will comply with various legal and regulatory requirements as described within the form.

(e) Proposal Narrative and Eligibility Statement. Completed applications must include a proposal narrative along with an eligibility statement. AMS has developed the “FMPP Project Proposal Narrative Form” and the “FMPP Supplemental Budget Summary Form” to assist applicants in placing the required information in the proper order.

(f) FMPP Narrative Forms. AMS has developed the “FMPP Project Proposal Narrative Form” and the “FMPP Supplemental Budget Summary Form” to assist applicants in placing the required information in the proper order in the proposal narrative. These voluntary forms are recommended for use as guidance for the application development and submittal processes. The voluntary “FMPP Project Proposal Narrative Form” and “FMPP Supplemental Budget Summary Form” used to complete the proposal narrative will not increase the total number of burden hours. These burden hours have been captured in the proposal narrative.

Before funds are dispersed, applicants that are selected for FMPP grant funds (awardees) must complete the following forms:

(a) Form AD-1047, “Certification Regarding Disbarment, Suspension, and Other Responsibility Matters—Primary Covered Transactions.” This form must have the awardee's original signature.

(b) Form AD-1048, “Certification Regarding Disbarment, Suspension, Ineligibility and Voluntary Exclusion—Lower Tier Covered Transactions.” This form must have the awardee's original signature.

(c) Form AD-1049, “Certification Regarding Drug-Free Workplace Requirements (Grants) Alternative I—For Grantees Other Than Individuals.” The awardee keeps this document for their records.

Additionally, awardees must also complete the following form and paperwork for AMS:

(a) Grant Agreement. The grant agreement is used as documentation of the agreed upon responsibilities of AMS and the awardee(s) performing the project work. It also indicates the agreed upon grant funding dollar amounts and the beginning date and ending date of the project work and the grant agreement. Four (4) copies of this agreement are required with the awardee's and the AMS Administrator's office signatures and dated for each grant.

(b) Form SF-270, “Request for Advance and Reimbursement” is required whenever the awardees request an advance or reimbursement of Federal grant funds. AMS expects that at least three (3) SF-270 forms will be submitted during the grant agreement period.

(c) Progress Reports. The Progress Report is written documentation required to notify AMS about the work activities and progress towards completing the awardee's established project workplan goals, objectives, and timelines. AMS expects that at least two (2) Progress Reports will be submitted during the grant agreement period.

(d) Final Report. The Final Report is written information required by AMS within 90 days after the ending date of the grant agreement. This information is utilized as final documentation of completion of the workplan goals, objectives, and activities.

Estimate of Burden: The public reporting and recordkeeping burden for the collection of information is estimated to average 6.684 hours per response.

Respondents: Agricultural Cooperatives, Local Governments, Nonprofit Corporations, Public Benefit Corporations, Economic Development Corporations, Regional Farmers' Market Authorities, and Tribal Governments.

Estimated annual number of respondents: 400.

Estimated annual number of responses per respondent: 1.475.

Estimated annual number of responses: 590.

Estimated total annual burden on the respondents: 3,944 hours.

Comments are requested on this revision to the public reporting and recordkeeping burden from the estimated 3,200 annual burden hours to an estimated 3,944 total annual burden hours. Comments are invited on: (1) Whether the collection of information is necessary for the proper performance of the functions of the agency, including whether this information will have practical utility; (2) the accuracy of the agency's estimate of the burden of this collection of information including the validity of the methodology and assumptions used; (3) ways to enhance the quality, utility, and clarity of the information to be collected; and (4) ways to minimize the burden of the collection of information on those who are to respond, including the use of appropriate automated, electronic, mechanical, or other technological collection techniques or other forms of information technology.

All comments concerning the information collection shall reference docket number AMS-TM-06-0191, TM-07-02 and the date and page number of this issue of the Federal Register Notice. Comments should be sent to Mr. Errol Bragg, Associate Deputy Administrator, Marketing Services Branch, Transportation and Marketing Programs, Agricultural Marketing Service (AMS), USDA, Room 2646-South, 1400 Independence Avenue, SW., Washington, DC, 20250-0269; phone 202/720-8317; or via the Internet at http://www.regulations.gov. Comments received will be available for public inspection during regular business hours at the same address and via the Internet at http://www.regulations.gov. All comments will become a matter of public record.

AMS is committed to compliance with the Government Paperwork Elimination Act that requires Government agencies in general to provide the public the option of submitting information or transacting business electronically to the maximum extent possible. For paper application submissions:

• The SF and AD forms can be filled out electronically and printed out for submission with original signatures.

• The voluntary “FMPP Proposal Narrative Form” and “FMPP Supplemental Budget Summary Form” can be filled electronically and printed out for submission.

For Grants.gov all SF and AD forms, as well as the proposal narrative and eligibility statement, can also be filled out electronically and submitted as an attachment through Grants.gov.

Definitions of Eligible Entities

The eligible entities include those outlined in Section 6(c) of the Farmer-to-Consumer Direct Marketing Act of 1976 (7 U.S.C 3005(c)). In addition, the Secretary has designated Tribal Governments as an eligible entity for this grant program. Eligible entities are defined in this program and throughout this NOFA as follows: ¹

¹ References to a state also include the District of Columbia.

Agricultural cooperative—A group- or member-owned entity or business that provides, offers, or sells agricultural products or services for the mutual benefit of the members thereof.

Local Government—Local government means any unit of local government within a State, including a county, borough, municipality, city, town, township, parish, local public authority, special district, school district, intrastate district, council of governments, and any other instrumentality of local government.

Nonprofit Corporation—Any organization or institution, including nonprofits with 501(c)(3) IRS status and accredited institutions of higher education, no part of the net earnings of which inures to the benefit of any private shareholders or individuals.

Public Benefit Corporation—A corporation organized to construct or operate a public improvement, the profits from which inure to the benefit of a State(s) or to the people thereof.

Economic Development Corporation—An organization whose mission is the improvement, maintenance, development and/or marketing or promotion of a specific geographic area.

Regional Farmers' Market Authority—An entity that establishes and enforces region, State, or county policies and jurisdiction over regional, State, or county farmers markets.

Tribal Government—A governing body or a governmental agency of any Indian tribe, band, nation, or other organized group or community (including any Native village as defined in section 3 of the Alaska Native Claims Settlement Act, 85 Stat. 688 (43 U.S.C. 1602)) certified by the Secretary of the Interior as eligible for the special programs and services provided through the Bureau of Indian Affairs.

Recipient and Project Eligibility Requirements

All eligible entities shall be domestic entities, i.e., those owned, operated, and located within one or more of the 50 United States and the District of Columbia only. Entities located within U.S. territories are not eligible.

Additionally, under this program eligible entities must apply for FMPP funds on behalf of direct marketing operators that include two or more agricultural farmers/vendors that produce and sell their own products through a common distribution channel. For example, a sole proprietor of a roadside farm market would not be eligible for this program. Because the FMPP is authorized by and amends the Farmer-To-Consumer Marketing Act of 1976, AMS will oversee and award grant projects that continue in developing, promoting, and expanding direct marketing of agricultural commodities from farmers to consumers. Eligible proposals should support marketing entities where agricultural farmers or vendors sell their own products directly to consumers, and the sales of these farm products should represent the core business of the entity.

Individual agricultural producers, including farmers and farmers' market vendors, roadside stand operators, community supported agriculture participants, and other individual direct marketers are not eligible for FMPP funds. FMPP funds exclude existing routine operational expenses such as management salaries or other's salaries associated with normal operation of farmers markets/marketing entities, utility bills, and insurance premiums.

FMPP grant funds must be applied to the specific programs and objectives identified in the application. Proprietary projects and projects that benefit one agricultural producer or individual will not be considered.

Project Timeframe

Projects are to be completed within 18 months.

Proposal and Application Preparation

Applicants must submit the following information; applications that do not contain this information will not be considered:

1. Form SF-424, “Application for Federal Assistance.” This form must have an original signature.

2. Form SF-424A, “Budget Information—Non-Construction Programs.”

3. Form SF-424B, “Assurances—Non-Construction Programs.”

4. DUNS Number—A Dun and Bradstreet Data Universal Numbering System (DUNS) number is required for all FMPP applications and all Federal grants (68 FR 38 402). The DUNS number must be included in the appropriate section of the Form SF-424. The applicant may check to see if the organization applying for the grant already has a DUNS number, or if they do not already have a DUNS number, acquire one online at no cost at http://fedgov.dnb.com/webform/ or call the dedicated toll-free DUNS number request line on 1-866-705-5711.

5. Eligibility Statement. Explain how the applicant meets the definition of an agricultural cooperative, local government, nonprofit corporation, public benefit corporation, regional farmers' market authority, or other eligible entity as outlined in the “Definitions of Eligible Entities” section of this NOFA. Applications without sufficient information to determine their eligibility will not be considered. This eligibility statement will be counted towards the 10-page maximum for the proposal narrative.

6. Proposal Narrative. The narrative portion of the project proposal must not exceed 10 pages (Times New Roman font, 12 pt. pitch, single spaced, 8.5 by 11 inch-paper). AMS has provided guidance for use in organizing the narrative and placing this information in its proper order. Refer to the FMPP Guidelines available from AMS's Marketing Services Branch Web site at: http://www.ams.usda.gov/FMPP for more information. The narrative must be organized under the following headings:

a. Project Title. Provide a title that captures the primary focus of the project.

b. Applicant/Organization Information. Provide the applicant/organization name, applicant/organization contact name, mailing address, telephone and fax number, and email address for the person responsible for the application, financial information, and the proposed project budget.

c. Primary Project Manager Information. Provide the name, mailing address, telephone and fax number, and email address for the person(s) responsible for managing and/or overseeing the project.

d. Entity Type. Indicate the entity type of the applicant/organization, i.e., an agricultural cooperative, local government, nonprofit corporation, public benefit corporation, economic benefit corporation, regional farmers' market authority, tribal government, or other entity type.

e. Executive Summary. The project proposal summary, not to exceed 200 words, must include the following: a description of the project including the goals to be accomplished, stages of work and resources required, the expected timeframe for completing all tasks and results, and primary project manager responsible for the project.

f. Goals of the Project. Provide a clear statement that includes the ultimate goal(s) and objective(s) (one or two sentences) of the project.

g. Background Statement. Provide information regarding past, current, and/or future events, conditions, or actions taken that justify the need for the project.

h. Workplan and Resource Requirements. Provide a statement that includes the planned scope of work, anticipated stages and timelines, and the resources required to complete the project. Identify who will do the work, whether collaborative arrangements or subcontractors will be used, the amount of resource commitments of the collaborators, and the role(s) and responsibilities of each collaborator or project partner.

i. Expected Outcomes and Project Evaluation. Describe what is to be accomplished, the expected results, and how success will be measured at the completion of the project.

j. Beneficiaries. Describe which persons, organizations, and/or entities will benefit from the project work or research outlined in the proposal.

k. Supplemental Budget Summary. Provide in sufficient detail information about the budget categories listed on Form SF-424A to demonstrate that the budget is reasonable and adequate for the proposed work. Additional detail and justification must be provided for any purchase that is expected to exceed $5,000. For full information on how to complete the Supplemental Budget Summary, please refer to the FMPP Guidelines available from AMS's Marketing Services Branch Web site at: http://www.ams.usda.gov/FMPP.

l. Primary Proposal Activity. Identify the main activity (only one specific activity, i.e., waste management) that the proposal has indicated to meet the goals and objectives. Refer to the “Eligible Grant Uses” section to assist in identifying this activity.

m. Secondary Proposal Activity. Identify the secondary activities (as many as are applicable) that the proposal has indicated to meet the goals and objectives. Refer to the “Eligible Grant Uses” section to assist in identifying these activities.

7. Methods of Evaluating Proposals. Applicants should ensure that evaluation criteria are addressed within the proposal narrative. The suggested questions with each criterion are provided as general guidance for completing the narrative; provide additional information as appropriate.

Each criterion has a maximum score value, and the total maximum score for an FMPP proposal narrative will equal 100. Proposals will be rated on each criterion as follows:

a. The Need for the Project (maximum score = 25). Provide justification for the project approach and/or strategies in the proposal; to include:

(1) How do the project activities in the proposal conform to the FMPP program objectives and eligible funding uses?

(2) How does the proposal demonstrate the project's merit? Why are these activities appropriate for achieving the project's stated objectives?

b. Direct Benefit to Farmers/Vendors (maximum score = 20). Explain the direct benefit to market/market entity farmers and vendors. Any benefit for individual farmers/vendors should be provided for every participating farmer/vendor in a market/market entity. Include:

(1) How will the farmer/vendor benefit from these activities? How many farmers/vendors will benefit from your project's activities?

(2) What is the overall potential impact on the local/regional farm economy?

c. Reasonableness of Budget (maximum score = 15). Provide justification for the budget and funds usage. Include:

(1) How is budget appropriate for the scope of work?

d. Project Innovation (maximum score = 10). Provide justification of the proposal's innovative approach. Include:

(1) Has this approach been done before? And if it has, how does it differ from previous efforts?

(2) Why is your approach different or better than other efforts?

e. Transferability of Project Outcomes (maximum score = 10). Explain how and why proposed activities could be used elsewhere. Include:

(1) Will the outcome and lessons learned from this project be applicable to other locations?

f. Degree of Collaboration/Partnerships (include partner qualifications) and Participation (maximum score = 10). Outline the collaboration/partnerships formed and farmer/producer participation for this project. Include:

(1) How many collaborators/partners and farmers/producers will participate in this project? What role will they play?

(2) How will collaborators/partners and farmers/producers assist in implementing the project?

(3) What resource commitments will they provide?

g. Quantitative Evaluation and Measurement of Project's Impact (maximum score = 10). Define how successes will be measured and how sustainable the activities are after FMPP funds are no longer available. Include:

(1) How will project results be measured?

(2) How self-sustaining will the project be after FMPP grant funding is exhausted?

8. Application/Proposal Packages. To ensure proper application preparation, see the FMPP Guidelines available from AMS's Marketing Services Branch Web site at: http://www.ams.usda.gov/FMPP for submission to AMS.

Grant Amounts

The amount of funds available for FMPP grants in FY 2007 is approximately $1 million. These grant funds are contingent upon Congress's providing funding to AMS for this program. The maximum amount of Federal funds awarded for any one proposal will be $75,000.

Number of Awards

An applicant can not receive more than one FMPP grant in a grant funding year.

Eligible Grant Uses

FMPP grants were established for projects intended to benefit more than one agricultural farmer or producer. Applications for FMPP grants funds should be for, but not limited to, projects and proposals that are associated with the following three categories:

1. Improving Farmer/Vendor Access to Relevant Marketing and Financial Information—Projects that provide opportunities and promote training, education, networking, technical assistance, and information sharing for farmers, vendors, market management, and market sponsors. These projects are designed to enhance sales volumes, self-sufficiency, and product security/safety. Project focuses may address:

• Direct marketing practices and methods, business planning, market growth management, recordkeeping, food handling and safety.

• Farmer and vendor selection, recruitment, and retention.

• Consumer trends, demographics, changing ethnic demographics, and their relationship to customer purchasing patterns.

• Alternative purchasing methods, such as Women, Infants, and Children Farmers Market Nutrition Programs (WIC-FMNP) coupons; Senior Farmers Market Nutrition Program (SFMNP) coupons; and debit/credit technologies.

• Association and other organizational development.

2. Consumer-Based Education and Market Access—Projects that address ways to improve consumers' access and utilization of markets/entities: These projects may include:

• Consumer education that focuses on new food and agricultural products, product applications, and chef demonstrations with a required emphasis on the assessment, evaluation, and impact of such education on consumer patronage at eligible markets/entities.

• Assessment, evaluation, and impact of the vendors and/or the market/entities in providing access to fresh fruits and vegetables to low-income households, children, and seniors.

3. Innovative Approaches to Market/Facility Operations and Management—Projects that address operational or marketing opportunities and issues of markets and/or farmers/vendors to: enhance product value and sales; increase revenue and efficiency; or reduce expenses. These projects may address:

• The use and effect of advertising, market promotion, labeling, and/or signage and the measurement of their impact.

• Waste management/recycling.

• Liability coverage and insurance.

• Facility planning and/or design.

• Transportation and delivery systems.

• Infrastructure for electronic benefits transfer (EBT) usage; processing, kitchen incubators, storage, packaging, and refrigeration.

Any of the projects within each category above can be identified as a “primary” or “secondary” proposal activity. Only one activity, however, should be selected and identified as the “primary project activity” for FMPP grant funding uses. See “Proposal Narrative,” sections 6.l. and 6.m. in “Proposal and Application Preparation,” for more information.

Ineligible Grant Uses

FMPP grant funds cannot be used to pay for:

1. Acquisition of land, repair, rehabilitation, acquisition or construction of a building or facility.

2. Political or lobbying activities.

3. Any activities prohibited by 7 CFR parts 3015 and 3019.

How To Submit Proposals and Applications

Each application must contain the following information stated in the “Proposal Preparation” section of the NOFA: Forms SF-424, SF-424A, and SF-424B; the entity DUNS number; the entity eligibility statement; and the proposal narrative. Electronic forms, proposals, letters of support, or any other application materials emailed directly to AMS or USDA-AMS staff will not be accepted.

Following are the options available for submitting proposals and applications to AMS:

Paper Submissions—For paper submissions an original and one copy of the proposal, required forms, narrative, letters of support, and all required materials must be submitted in one package, preferably via express mail. Because packages sent to the Agency through the United States Postal Service can be damaged or delayed due to security procedures at USDA Washington DC headquarters, express mail services or couriers are strongly recommended. Paper submissions must be sent to:

Mr. Errol Bragg, Associate Deputy Administrator, Marketing Services Branch, Transportation and Marketing Programs, AMS, USDA, Room 2646-South, 1400 Independence Avenue, SW., Washington, DC, 20250-0269.

If an e-mail address is provided on Form SF-424, FMPP will send an e-mail message to the applicant confirming receipt of the application package.

Electronic Submissions via Grants.gov—Applicants may apply electronically for grants through the Federal grants Web site: http://www.Grants.gov. Applicants who submit their FMPP proposals via the Federal grants Web site are not required to submit any paper documents to FMPP.

FMPP is listed in the “Catalog of Federal Domestic Assistance” under number 10.168 and subject agencies must adhere to Title VI of the Civil Rights Act of 1964, which bars discrimination in all federally assisted programs.

Dated: February 21, 2007.
Lloyd Day,
Administrator, Agricultural Marketing Service.

[FR Doc. E7-3263 Filed 2-26-07; 8:45 am]

BILLING CODE 3410-02-P